DEPARTMENT OF COMMERCE

Minority Business Development Agency

[Docket No. 241219-0332]

Request for Public Comment on MBDA Information Clearinghouse

AGENCY: Minority Business Development Agency, Department of Commerce.

ACTION: Request for comments.

SUMMARY: The Minority Business Development Agency (MBDA) is accepting written comments from the public regarding the MBDA Information Clearinghouse, through February 28, 2025. The comments will inform MBDA of the types of data and other information sought, best practices or recommendations for studies, analysis and data about Minority Business Enterprises (MBEs) to be published, and ways to improve the user experience.

ADDRESSES: Please submit all comments in response to the questions presented in this notice at www.regulations.gov. To access the docket where comments may be submitted, please enter “MBDA-2024-0004” in the search bar. Written comments must be submitted no later than 11:59 p.m. EST, February 28, 2025. Comments received after the deadline will not be considered. For comments to be considered, they must include the following identification of the commenter: name; title (if applicable); organization or business (if applicable); and city and state.

FOR FURTHER INFORMATION CONTACT: Mr. Efrain Gonzalez, Jr., Associate Director, Office of Data, Research and Evaluation, Minority Business Development Agency, at (202) 482-1079; or by email at egonzalez@mbda.gov.

SUPPLEMENTARY INFORMATION:

I. Background

The Minority Business Development Act of 2021, 15 U.S.C. 9513, mandates MBDA to develop and implement an Information Clearinghouse that will collect and disseminate demographic, economic, financial, managerial, and technical data relating to MBEs. In conjunction with this Request for Public Comment, MBDA will launch the Information Clearinghouse and allow the public an opportunity to review, and comment based on the initial deployment. The Information Clearinghouse is being released as a beta version hosting data, research, and reports about MBEs, with on-going improvements to its technical functionality and content planned during the year. Public feedback will help MBDA identify user interests and priorities related to data, information, and system usability.

II. Information Clearinghouse

The purpose of this request for comment is to inform MBDA on user preferences related to the content type, maintenance, collection and dissemination to relevant parties (including business owners and researchers).

III. Requests for Public Comment

Members of the general public are invited to submit responses to the following:

(1) The types of data and information MBDA should have available in the Information Clearinghouse (www.mbda.gov/research).

(2) Provide examples of how the data and information could be used.

(3) Provide preferences for how data and information is made available, including but not limited to preferences on file formats, 3rd party access & software integration, visualization of data sets, and language.

(4) Provide best practices and/or recommendations, which may include examples, of evidentiary-based studies, analysis and data related to Minority Business Enterprises (MBEs) for publication through the Information Clearinghouse.

(5) Provide feedback on overall use of the system including challenges in finding specific data and/or information.

All comments must be submitted in written form at www.regulations.gov. To access the docket where comments may be submitted, please enter “MBDA-2024-0004” in the search bar. Comments must be received no later than 11:59 p.m., EST, Friday, February 28, 2025.

Dated: December 19, 2024.
Eric Morrisette,
Deputy Under Secretary for Minority Business Development, U.S. Department of Commerce.

[FR Doc. 2024-30765 Filed 12-23-24; 8:45 am]

BILLING CODE 3510-21-P